NATIONAL SCIENCE FOUNDATION

Notice of Permits Issued Under the Antarctic Conservation Act of 1978

AGENCY: National Science Foundation.

ACTION: Notice of permits issued under the Antarctic Conservation of 1978, Public Law 95-541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On January 31, 2001, and March 6, 2001 respectively, the National Science Foundation published notices in the Federal Register of a permit applications received. Permits were issued on April 12, 2001 to:

Bruce D. Sidell Permit No. 2001-026

H. William Detrich Permit No. 2001-027

Nadene G. Kennedy,
Permit Officer.

[FR Doc. 01-10565 Filed 4-26-01; 8:45 am]

BILLING CODE 7555-01-M